DEPARTMENT OF AGRICULTURE

Forest Service

36 CFR Parts 223, 228, 261, 292, and 293

Regulatory Flexibility Act Assessment—Locatable Minerals Operations

AGENCY: Forest Service, USDA.

ACTION: Notice of proposed rulemaking; request for comment.

SUMMARY: The Forest Service published in the Federal Register a proposed rule to revise the regulations for locatable minerals operations conducted on National Forest System lands. The proposed rule considered impacts to small entities under Executive Order 13272 and the Small Business Regulatory Enforcement Fairness Act of 1996 (SBREFA). However, the proposed rule did not make available nor seek comment on the small entities flexibility assessment. This notice allows for review and seeks comment on the flexibility assessment.

DATES: Comments must be received, in writing, on or before July 17, 2008.

ADDRESSES: Send written comments to Forest Service, USDA, Attn: Director, Minerals and Geology Management (MGM) Staff, (2810), Mail Stop 1126, Washington, DC 20250-1125; by electronic mail to 36cfr228a@fs.fed.us; by fax to (703) 605-1575. If comments are sent by electronic mail or by fax, the public is requested not to send duplicate written comments via regular mail. The public may inspect comments received on the proposed rule in the Office of the Director, MGM Staff, 5th Floor, Rosslyn Plaza Central, 1601 North Kent Street, Arlington, Virginia, on business days between the hours of 8:30 a.m. and 4 p.m. Those wishing to inspect comments are encouraged to call ahead at (703) 605-4646 to facilitate entry into the building.

FOR FURTHER INFORMATION CONTACT: Mike Doran, Minerals and Geology Management Staff, (208) 373-4132. Individuals who use telecommunication devices for the deaf (TDD) may call the Federal Information Relay Service (FIRS) at 1-800-877-8339 between 8 a.m. and 8 p.m., Eastern Standard Time, Monday through Friday.

Individuals who use telecommunication devices for the deaf (TDD) may call the Federal Information Relay Service (FIRS) at 1-800-877-8339 between 8 a.m. and 8 p.m., Eastern Standard Time, Monday through Friday.

SUPPLEMENTARY INFORMATION: The assessment follows.

Description of Small Entities Affected

The proposed rule (73 FR 15694, Mar. 25, 2008) would directly affect all exploration and mining companies. There are currently approximately 1,800 exploration and mining companies operating on the National Forests. Seventy-five percent of these companies are considered small business with less than 500 employees. The size of these 1,260 small businesses range from one person to 499 employees. Total production ranges from zero production for exploration companies to few thousand dollars per year for very small mining to several million dollars per year for the larger mining companies. Most mining companies require at least 20-25 percent profit to survive mining's volatile market.

Economic Impacts on Small Entities

Increased operating costs from the proposed rule to small exploration and mining companies is expected to be insignificant since the small entities are already working under the proposed rule through current direction and policy spelled out in the Forest Service manual and handbooks. The proposed rule codifies much of the existing direction and policy.

The most direct costs from the proposed regulations will come from how much time and money is spent on filling out and filing the required notice of intent, cessation of operations, or an operating plan. Table #1 records the 2007 annualized burden costs for an operator.

The United States Geological Survey (USGS) published earnings information pertaining to locatable mineral operations. That information can be found in the Mineral Commodity Summaries 2007. The USGS disclosed that the estimated “Average weekly earnings of production workers” for metal mining in 2006 was $979. Based on 40 hours a week and on an 8-hour workday, the average hourly salary in the locatable mineral arena is about $24.48. This rate is reflected in Table #1.

Table #1.—2007 Annualized Burden Costs
Information collection | Number of respondents | Response frequency | Hour burden per collection | Total burden hours | Annualized costs @$24.48/hour | Cost per respondent
Plan of operations | 319 | 1 | 12 | 3,828 | $93,709 | $293.76
Notice of intent | 1,396 | 1 | 2 | 2,792 | 20,318 | 14.55
Cessation of operations | 3 | 1 | 1 | 3 | 73 | 24.33

Each year the Forest Service surveys the regional offices to get an estimate of how many Plans of Operations and Notices of Intents were received. The latest figures indicate that 320 Plans of Operations and 415 Notices of Intent were received in 2007. All of these plans and notices came from small entities.

Total estimated 2007 costs for small entities to comply with the information collection was $114,100. The estimated additional information collection costs for the proposed bonded notice are reflected in Table #2.

Table #2.—2007 Annualized Burden Costs for a Bonded Notice
(Proposed Rule)
Information collection | Number of respondents | Response frequency | Hour burden per collection | Total burden hours | Annualized costs @$24.48/hour | Cost per respondent
Bonded notice | 100 | 1 | 6 | 600 | $14,688 | $146.88

The field units provided an initial estimate of 100 exploration and mining companies that would use the bonded notice instead of a plan of operation. A six hour burden per bonded notice was assumed giving a total of 600 burden hours. Annualized costs to the small entities would be $14,688.

The economic impact on an individual respondent would be $114,100 + $14,688 = $128,788 divided by 1,260 small businesses = $102.21.

Conclusion

The comments will be addressed in the final rule for locatable minerals operations. The Forest Service has determined that the proposed rule will have an impact on a substantial number of small businesses. However, the economic impact of the proposed rule will not be significant. Under the proposed rule small entities will have the option of filing a bonded notice rather than a plan of operation for short-term, low impact exploration proposals rather the longer plan of operations requiring more analysis and a longer approval time. The Forest Service expects the major impact from the proposed rule to be a reduction of paperwork burden for the small entities which should be beneficial to small exploration and mining companies.

The Forest Service hereby certifies that the proposed rule will not have significant economic impact on a substantial number of small entities as defined by SBRFEA.

Dated: June 9, 2008.
Charles L. Myers,
Associate Deputy Chief, National Forest System.

[FR Doc. E8-13446 Filed 6-16-08; 8:45 am]

BILLING CODE 3410-11-P